Title 3—

The President

Proclamation 10065 of August 31, 2020

National Alcohol and Drug Addiction Recovery Month, 2020

By the President of the United States of America

A Proclamation

National Alcohol and Drug Addiction Recovery Month is a time to honor and celebrate the millions of Americans who have found a pathway from addiction to a life of renewed purpose.

The theme of this year's Recovery Month is “Join the Voices for Recovery: Celebrating Connections.” For those in or seeking recovery, developing and nurturing connections and relationships is essential. Despite challenges to developing and fostering meaningful connections caused by the coronavirus, Americans in recovery have demonstrated resilience and resolve by creating new and innovative means of connecting to fill the void of in person interactions. From establishing virtual peer support groups that embrace technology like videoconferencing to holding health and wellness classes remotely or in person following social distancing guidelines, Americans in recovery are finding strength in their communities.

Throughout these unprecedented and challenging times, my Administration has taken historic action to ensure the road to recovery remains open. Among other measures, we have expanded access to telehealth services and ensured addiction treatment medications have remained available, including in rural and other underserved areas. In March, I signed the Coronavirus Aid, Relief, and Economic Security Act to provide millions of dollars in emergency funding for a wide range of prevention, treatment, and recovery services during the pandemic. My Administration is also working tirelessly to increase access to effective treatments and to build up the Nation's peer recovery support services infrastructure.

To help end the scourge of addiction, my Administration released our National Treatment Plan for Substance Use Disorder, which outlines steps for improving the quality of treatment across a full continuum of care. This includes early identification and intervention services, and increased access to addiction treatment and recovery support services. Additionally, in June, I signed an Executive Order that requires the Secretary of Health and Human Services to survey community support models addressing addiction and to make recommendations to ensure successful models are widely adopted and implemented.

It is within a communal framework of love, compassion, and understanding, nurtured by the shared experiences of strength, hope, and healing, that we can find understanding and inspiration in one another. As our Nation continues to recognize those who are successfully breaking the chains of addiction and drug and alcohol misuse, we applaud the healthcare and treatment professionals, counselors, peer recovery coaches, faith leaders, first responders, family members, friends, and advocates who are vital in helping them achieve and sustain recovery, whether in person, over the phone, or virtually. Together, we can help more Americans live healthy and meaningful lives while building a stronger Nation.

NOW, THEREFORE, I, DONALD J. TRUMP, President of the United States of America, by virtue of the authority vested in me by the Constitution and the laws of the United States, do hereby proclaim September 2020 as National Alcohol and Drug Addiction Recovery Month. I call upon the people of the United States to observe this month with appropriate programs, ceremonies, and activities.

IN WITNESS WHEREOF, I have hereunto set my hand this thirty-first day of August, in the year of our Lord two thousand twenty, and of the Independence of the United States of America the two hundred and forty-fifth.

[FR Doc. 2020-19742

Filed 9-2-20; 11:15 am]

Billing code 3295-F0-P